DEPARTMENT OF HOMELAND SECURITY

Coast Guard

33 CFR Part 100

[Docket No. USCG-2012-0572]

Regattas and Marine Parades; Great Lakes Annual Marine Events

AGENCY: Coast Guard, DHS.

ACTION: Notice of enforcement of regulation.

SUMMARY: The Coast Guard will enforce various special local regulations for annual regattas and marine parades in the Captain of the Port Detroit zone from 9 a.m. on June 22, 2012 through 6 p.m. on July 29, 2012. This action is necessary and intended to ensure safety of life on the navigable waters immediately prior to, during, and immediately after regattas or marine parades. Enforcement of these special local regulations rule will establish restrictions upon, and control movement of, vessels in specified areas immediately prior to, during, and immediately after regattas or marine parades. During the enforcement periods, no person or vessel may enter the regulated areas without permission of the Captain of the Port.

DATES: The regulations in 33 CFR 100.914, 100.915, 100.919, and 100.920 will be enforced at various times between June 22, 2012 and July 29, 2012.

FOR FURTHER INFORMATION CONTACT: If you have questions on this notice, call or email LT Adrian Palomeque, Prevention Department, Sector Detroit, Coast Guard; telephone (313) 568-9508, email Adrian.F.Palomeque@uscg.mil.

SUPPLEMENTARY INFORMATION: The Coast Guard will enforce the following special local regulations at the following times:

Section 100.914 Trenton Rotary Roar on the River, Trenton, MI

This special local regulation will be enforced from 12 a.m. to 6 p.m. on July 20, 2012 and from 8 a.m. to 8 p.m. on July 21 and 22, 2012.

Section 100.915 St. Clair River Classic Offshore Race, St. Clair, MI

This special local regulation will be enforced from 10 a.m. to 6 p.m. on July 27, 28 and 29, 2012.

Section 100.919 International Bay City River Roar, Bay City, MI

This special local regulation will be enforced from 9 a.m. to 6 p.m. on June 22, 23, and 24, 2012. In the case of inclement weather on June 24, 2012, this special local regulation will also be enforced from 9 a.m. to 6 p.m. on June 25, 2011.

Section 100.920 Tug Across the River, Detroit, MI

This special local regulation will be enforced from 6 p.m. to 7 p.m. on July 13, 2012.

Regulations

(1) In accordance with the general regulations in 33 CFR 100.901, entry into, transiting, or anchoring within these regulated areas is prohibited unless authorized by the Captain of the Port Detroit, or his designated on-scene representative.

(2) These regulated areas are closed to all vessel traffic, except as may be permitted by the Captain of the Port Detroit or his designated on-scene representative.

(3) The “designated on-scene representative” of the Captain of the Port is any Coast Guard commissioned, warrant, or petty officer who has been designated by the Captain of the Port to act on his behalf. The designated on-scene representative of the Captain of the Port will be aboard either a Coast Guard or Coast Guard Auxiliary vessel. The Captain of the Port or his designated on scene representative may be contacted via VHF Channel 16.

(4) Vessel operators desiring to enter or operate within the regulated area shall contact the Captain of the Port Detroit or his designated on-scene representative to obtain permission.

(5) Vessel operators given permission to enter or operate in the regulated area must comply with all directions given to them by the Captain of the Port or his designated on-scene representative.

Dated: June 13, 2012.
J.E. Ogden,
Captain, U.S. Coast Guard, Captain of the Port Detroit.

[FR Doc. 2012-15513 Filed 6-21-12; 11:15 am]

BILLING CODE 9110-04-P